ENVIRONMENTAL PROTECTION AGENCY

40 CFR Part 52

[R08-OAR-2005-UT-0003; FRL-7961-6]

Approval and Promulgation of Air Quality Implementation Plans; State of Utah; Ogden City Revised Carbon Monoxide Maintenance Plan and Approval of Related Revisions

AGENCY: Environmental Protection Agency (EPA).

ACTION: Proposed rule.

SUMMARY: EPA is proposing to take direct final action approving State Implementation Plan (SIP) revisions submitted by the State of Utah. On November 29, 2004, the Governor of Utah submitted revisions to Utah's Rule R307-110-12, “Section IX, Control Measures for Area and Point Sources, Part C, Carbon Monoxide,” which incorporates a revised maintenance plan for the Ogden carbon monoxide (CO) maintenance area for the CO National Ambient Air Quality Standard (NAAQS). The revised maintenance plan contains revised transportation conformity budgets for the years 2005 and 2021. In addition, the Governor submitted revisions to Utah's Rule R307-110-35, “Section X, Vehicle Inspection and Maintenance Program, Part E, Weber County,” which incorporates a revised vehicle inspection and maintenance program for Weber County. In this action, EPA is approving the Ogden City CO revised maintenance plan, the revised transportation conformity budgets, the revised vehicle inspection and maintenance program for Weber County, and the revisions to rules R307-110-12 and R307-110-35. This action is being taken under section 110 of the Clean Air Act.

In the “Rules and Regulations” section of this Federal Register, EPA is approving the State's SIP revisions as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

DATES: Written comments must be received on or before October 14, 2005.

ADDRESSES: Submit your comments, identified by RME Docket Number R08-OAR-2005-UT-0003, by one of the following methods:

• Federal eRulemaking Portal: http://www.regulations.gov. Follow the on-line instructions for submitting comments.

• Agency Web site: http://docket.epa.gov/rmepub/index.jsp. Regional Materials in EDOCKET (RME), EPA's electronic public docket and comment system for regional actions, is EPA's preferred method for receiving comments. Follow the on-line instructions for submitting comments.

• E-mail: long.richard@epa.gov, russ.tim@epa.gov, and mastrangelo.domenico@epa.gov.

• Fax: (303) 312-6064 (please alert the individual listed in the FOR FURTHER INFORMATION CONTACT if you are faxing comments).

• Mail: Richard R. Long, Director, Air and Radiation Program, Environmental Protection Agency (EPA), Region 8, Mailcode 8P-AR, 999 18th Street, Suite 300, Denver, Colorado 80202-2466.

• Hand Delivery: Richard R. Long, Director, Air and Radiation Program, Environmental Protection Agency (EPA), Region 8, Mailcode 8P-AR, 999 18th Street, Suite 300, Denver, Colorado 80202-2466. Such deliveries are only accepted Monday through Friday, 8 a.m. to 4:55 p.m., excluding Federal holidays. Special arrangements should be made for deliveries of boxed information.

Please see the direct final rule which is located in the Rules section of this Federal Register for detailed instructions on how to submit comments.

FOR FURTHER INFORMATION CONTACT: Domenico Mastrangelo, Air and Radiation Program, Environmental Protection Agency (EPA), Region 8, Mailcode 8P-AR, 999 18th Street, Suite 300, Denver, Colorado 80202-2466, phone (303) 312-6436, and e-mail at: mastrangelo.domenico@epa.gov.

SUPPLEMENTARY INFORMATION: See the information provided in the Direct Final action of the same title which is located in the Rules and Regulations section of the Federal Register.

Authority: 42 U.S.C. 7401 et seq.

Dated: August 17, 2005.
Stephen S. Tuber,
Acting Regional Administrator, Region VIII.

[FR Doc. 05-18233 Filed 9-13-05; 8:45 am]

BILLING CODE 6560-50-P